DEPARTMENT OF HEALTH AND HUMAN SERVICES

Centers for Disease Control and Prevention

[60Day-04-09]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Thyroid Disease in Persons Exposed to Radioactive Fallout from Atomic Weapons Testing at the Nevada Test Site: Phase III (OMB No. 0920-0504)—Extension—National Center for Environmental Health (NCEH), Centers for Disease Control and Prevention (CDC).

In 1997, the National Cancer Institute (NCI) released a report entitled, Estimated Exposures and Thyroid Doses Received by the American People from I-131 in Fallout Following Nevada Nuclear Bomb Test. This report provided county-level estimates of the potential radiation doses to the thyroid gland of American citizens resulting from atmospheric nuclear weapons testing at the Nevada Test Site (NTS) in the 1950s and 1960s. The Institute of Medicine (IOM) conducted a formal peer review of the report at the request of the Department of Health and Human Services. In the review, IOM noted that the public might desire an assessment of the potential health impact of nuclear weapons testing on American populations. The IOM also suggested that further studies of the Utah residents who have participated in previous studies of radiation exposure and thyroid disease might provide this information.

CDC, National Center for Environmental Health proposes to conduct a study of the relation between exposure to radioactive fallout from atomic weapons testing and the occurrence of thyroid disease on an extension of a cohort study previously conducted by the University of Utah, Salt Lake City, Utah. This study is designed as a follow-up to a retrospective cohort study begun in 1965. This is the third examination (hence Phase III) of a cohort of individuals comprised of persons who were children living in Washington County, Utah, and Lincoln County, Nevada, in 1965 (Phase I) and who were presumably exposed to fallout from above-ground nuclear weapons testing at the Nevada Test Site in the 1950s. The cohort also includes a control group comprised of persons who were children living in Graham County, Arizona, in 1966 and presumably unexposed to fallout.

The study headquarters will be at the University of Utah in Salt Lake City, Utah. The field teams will spend the majority of their time in the urban areas nearest the original counties if the same pattern of migration holds that was found in Phase II. These urban areas include St. George, Utah; the Wasatch Front in Utah; Las Vegas, Nevada; Phoenix/Tucson, Arizona; and Denver, Colorado. In addition, some time will be spent in California as a number of subjects had relocated there at the time of Phase II. The purposes of Phase III are three fold. First, the participants in Phase II will be reexamined for occurrence of thyroid neoplasia and other diseases since 1986, and residents of the three counties who moved before they could be included in the original cohort will be located and examined. Second, disease incidence will be analyzed in addition to period prevalence as used in the Phase II analysis, incidence analysis will allow for greater power to detect increased risk of disease in the exposed population through the use of person-time. Third, disease specific mortality rates for Washington County, Utah, and a control county, Cache County, Utah, will be compared for people who lived in these two counties during the time of above-ground testing. This comparison will determine if the risk of mortality in Washington County (the exposed group) is significantly greater than Cache County (the control group). CDC, NCEH is requesting a three-year clearance. There is no cost to respondents.

Respondents | Number of respondents | Number of responses/respondent | Average burden per response (in hrs.) | Total burden hours
Telephone Location Script | 3700 | 1 | 5/60 | 308
Telephone Location Script (Return Letter) | 200 | 1 | 5/60 | 17
Refusal Telephone Script | 150 | 1 | 5/60 | 13
Recruitment Next of Kin Telephone Script | 225 | 1 | 5/60 | 19
Recruitment & Appointment Script | 3700 | 1 | 5/60 | 308
Broken Appointment Telephone Script | 120 | 1 | 5/60 | 10
Exposure Questionnaire | 500 | 1 | 90/60 | 750
Questionnaire Preparation Booklet | 3700 | 1 | 30/60 | 1850
Group Member Information | 3700 | 1 | 5/60 | 308
Consent Forms | 3700 | 1 | 10/60 | 617
Interview Booklet | 500 | 1 | 30/60 | 250
Medical History Questionnaire (male) | 1800 | 1 | 45/60 | 1350
Medical Records Release Telephone Script | 120 | 1 | 5/60 | 10
Medical History Questionnaire (female) | 1900 | 1 | 45/60 | 1425
Travel Form | 240 | 1 | 20/60 | 80
Residence History | 500 | 1 | 5/60 | 42
Refusal Questionnaire | 24 | 1 | 5/60 | 2
Total hours in burden | 24779 |  |  | 7359

Dated: November 18, 2003.
Laura Yerdon Martin,
Acting Director, Executive Secretariat, Centers for Disease Control and Prevention.

[FR Doc. 03-29522 Filed 11-25-03; 8:45 am]

BILLING CODE 4163-18-P